DEPARTMENT OF HEALTH AND HUMAN SERVICES

Centers for Disease Control and Prevention

Advisory Committee for Injury Prevention and Control, Subcommittees Science and Program Review; Subcommittee on Intimate Partner Violence and Sexual Assault

In accordance with section 10(a)(2) of the Federal Advisory Committee Act (Pub. L. 92-463), the Centers for Disease Control and Prevention (CDC) announces the following subcommittee and committee meetings.

Name: Science and Program Review Subcommittee (SPRS).

Times and Dates:

6:30 p.m.-9 p.m., June 6, 2005;

8 a.m.-5:30 p.m., June 7, 2005;

8 a.m.-10 a.m., June 8, 2005.

Place: Crowne Plaza Hotel Atlanta-Buckhead, 3377 Peachtree Road, NE., Atlanta, GA 30326.

Status:

Open: 6:30 p.m.-7 p.m., June 6, 2005.

Closed: 7 p.m.-8 p.m., June 6, 2005;

Closed: 8:30 a.m.-5:30 p.m., June 7, 2005.

Open: 8 a.m.-10 a.m., June 8, 2005.

Purpose: The SPRS provides advice on the needs, structure, progress and performance of programs of the National Center for Injury Prevention and Control (NCIPC), as well as second-level scientific and programmatic review for applications for research grants, cooperative agreements, and training grants related to injury control and violence prevention, and recommends approval of projects that merit further consideration for funding support. The SPRS also advises on priorities for research to be supported by contracts, grants, and cooperative agreements and provides concept review of program proposals and announcements.

Matters To Be Discussed: The Science and Program Review Subcommittee (SPRS) of the ACIPC will meet June 6-8 to provide a secondary review of, discuss, and evaluate grant applications and cooperative agreements received in response to 10 Request for Applications RFAs). In addition, the SPRS will vote on the results of site visits conducted in response to Program Announcement #02043 pertaining to Injury Control Research Center (ICRC) applications. Also, the review will cover five research earmarks. This portion of the meeting (7 p.m.-9 p.m., June 6, 2005, and 8 a.m.-5:30 p.m., June 7, 2005), will be closed to the public in accordance with provisions set forth in section 552b(c)(4) and (6), Title 5, U.S.C., and the Determination of the Director, Management Analysis and Services Office, CDC, pursuant to Pub. L. 92-463.

Agenda items are subject to change as priorities dictate.

Name: Subcommittee on Intimate Partner Violence and Sexual Assault (SIPVSA).

Time and Date: 10 a.m.-11:30 a.m., June 8, 2005.

Place: Crowne Plaza Hotel Atlanta-Buckhead, 3377 Peachtree Road, NE., Atlanta, GA 30326.

Status: Open to the public, limited only by the space available.

Purpose: To advise and make recommendations to the full advisory committee and the Director, NCIPC, regarding feasible goals for prevention and control of domestic and sexual violence. The SIPVSA will make recommendations regarding strategies, objectives, and priorities in programs, policies and research.

Matters To Be Discussed: The SIPVSA will discuss strategies for examining models for integration of intimate partner violence and sexual assault prevention into broader public health infrastructure and strategies.

Name: Advisory Committee for Injury Prevention and Control.

Time and Dates:

1 p.m.-5:30 p.m., June 8, 2005;

8:30 a.m.-3:30 p.m., June 9, 2005.

Place: Crowne Plaza Hotel Atlanta-Buckhead, 3377 Peachtree Road, NE., Atlanta, GA 30326.

Status:

Closed: 1 p.m.-1:45 p.m., June 8, 2005.

Open: 1:45 p.m.-5:30 p.m., June 8, 2005;

Open: 8:30 a.m.-3:30 p.m., June 9, 2005.

Purpose: The Committee advises and makes recommendations to the Secretary, Health and Human Services, the Director, CDC, and the Director, NCIPC, regarding feasible goals for the prevention and control of injury. The Committee makes recommendations regarding policies, strategies, objectives, and priorities, and reviews progress toward injury prevention and control.

Matters To Be Discussed: Prior to the full committee meeting, there will be a brief meeting conducted by conference call of the Working Group on Injury Control and Infrastructure Enhancement, a group formed to report to the full committee identifying gaps and suggesting ways to enhance injury prevention efforts.

The working group will focus on defining injury infrastructure and developing a simple mechanism to assess current efforts underway throughout the injury field to enhance that infrastructure. Starting at 1 p.m., June 8, through 1:45 p.m., the full committee will vote on the results of secondary review. This portion of the meeting will be closed to the public in accordance with provisions set forth in section 552(b)(4) and (6), title 5 U.S.C., and the Determination of the Director, Management Analysis and Services Office, CDC, pursuant to Public Law 92-463. Following the closed session, the meeting will open to the public for an update on Center activities from the Director, NCIPC; reports from the Subcommittees and Working Group; state infrastructure development; and discussion on how NCIPC can support the recommendations of CDC's Futures Initiative.

Agenda items are subject to change as priorities dictate.

For Further Information Contact: Ms. Louise Galaska, Executive Secretary, ACIPC, NCIPC, CDC, 4770 Buford Highway, NE., M/S K02, Atlanta, Georgia 30341-3724, telephone (770) 488-4694.

The Director, Management Analysis and Services Office, has been delegated the authority to sign Federal Register notices pertaining to announcements of meetings and other committee management activities for both CDC and the Agency for Toxic Substances and Disease Registry.

Dated: April 21, 2005.
B. Kathy Skipper,
Acting Director, Management Analysis and Services Office, Centers for Disease Control and Prevention.

[FR Doc. 05-8499 Filed 4-27-05; 8:45 am]

BILLING CODE 4163-18-P